DEPARTMENT OF COMMERCE

Submission for OMB Review; Comment Request

The Department of Commerce will submit to the Office of Management and Budget (OMB) for clearance the following proposal for collection of information under the provisions of the Paperwork Reduction Act (44 U.S.C. Chapter 35).

Agency: Economic Development Administration (EDA).

Title: Trade Adjustment Assistance for Firms.

OMB Control Number: 0610-0091.

Form Number(s): ED-840P.

Type of Request: Regular submission (extension of currently approved information collection).

Number of Respondents: 800 (500 petitions for certification and 300 adjustment proposals).

Average Hours Per Response: 8 hours and 12 minutes for petitions for certification; 120 hours for adjustment proposals; 1 hour for hearing.

Burden Hours: 40,101 (4,100 for petitions for certification; 36,000 for adjustment proposals; 1 hour for hearing).

Needs and Uses: The information contained in Form ED-840P is necessary for EDA to evaluate whether proposed projects satisfy eligibility and programmatic requirements contained in chapters 3 and 5 of title II of the Trade Act of 1974, as amended (U.S.C.2341 et seq.) and the Trade Adjustment Assistance Extension Act of 2011 (Pub. L. 112-40) which reauthorized the program.

If the petitioner or any other person or organization with substantial interest submits a request for a public hearing, the Secretary of Commerce is directed to provide for a public hearing and afford such interested persons an opportunity to produce evidence and be heard.

Affected Public: Businesses or other for-profit organizations.

Frequency: On occasion.

Respondent's Obligation: Mandatory.

OMB Desk Officer: Nicholas Fraser.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to Nicholas Fraser, OMB Desk Officer, FAX number (202) 395-5167, or via the Internet at Nicholas_A._Fraser@omb.eop.gov.

Dated: May 21, 2013.
Gwellnar Banks,
Management Analyst, Office of the Chief Information Officer.

[FR Doc. 2013-12416 Filed 5-23-13; 8:45 am]

BILLING CODE 3510-WH-P